DEPARTMENT OF HEALTH AND HUMAN SERVICES

Agency for Healthcare Research and Quality

Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Healthcare Effectiveness and Outcomes Research.

Date: June 19, 2012 (Open from 8:00 a.m. to 8:15 a.m. on June 19 and closed for remainder of the meeting).

Place: Crowne Plaza Rockville, 3 Research Court, Rockville, MD 20850.

2. Name of Subcommittee: Health Safety and Quality Improvement Research.

Date: June 19-20, 2012 (Open from 8:00 a.m. to 8:15 a.m. on June 19 and closed for remainder of the meeting).

Place: Crowne Plaza Rockville, 3 Research Court, Rockville, MD 20850.

3. Name of Subcommittee: Health Systems and Value Research.

Date: June 20, 2012 (Open from 8:00 a.m. to 8:15 a.m. on June 20 and closed for remainder of the meeting).

Place: Crowne Plain Rockville, 3 Research Court, Rockville, MD 20850.

4. Name of Subcommittee: Health Care Research Training.

Date: June 21-22, 2012 (Open from 8:30 a.m. to 8:45 a.m. on June 21 and closed for remainder of the meeting).

Place: Crowne Plaza Rockville, 3 Research Court, Rockville, MD 20850.

5. Name of Subcommittee: Healthcare Information Technology Research.

Date: June 28-29, 2012 (Open from 8:00 a.m. to 8:15 a.m. on June 28 and closed for remainder of the meeting).

Place: Crowne Plaza Rockville, 3 Research Court, Rockville, MD 20850.

Contact Person: Anyone wishing to obtain a roster of members, agenda or minutes of the nonconfidential portions of the meetings should contact Mrs. Bonnie Campbell, Committee Management Officer, Office of Extramural Research, Education and Priority Populations, AHRQ, 540 Gaither Road, Suite 2000, Rockville, Maryland 20850, Telephone (301) 427-1554.

Agenda items for these meetings are subject to change as priorities dictate.

Dated: May 31, 2012.
Carolyn M. Clancy,
Director.

[FR Doc. 2012-13772 Filed 6-14-12; 11:15 am]

BILLING CODE 4160-90-M